DEPARTMENT OF ENERGY

Federal Energy Regulatory Commission

[Docket No. CP10-465-000]

Gulf South Pipeline Company, LP; Notice of Request Under Blanket Authorization

July 7, 2010.

Take notice that on June 23, 2010, Gulf South Pipeline Company, LP (Gulf), 9 Greenway Plaza, Suite 2800, Houston, Texas 77046, filed a prior notice request pursuant to sections 157.205, 157.208, and 157.210 of the Commission's regulations under the Natural Gas Act (NGA) for authorization to construct, own, operate, and maintain one new 10,311 horsepower (HP) compressor including appurtenant, auxiliary facilities at Gulf's existing Clarence Compressor Station located in Natchitoches Parish, Louisiana, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Specifically, South proposes to construct, own, and operate one new compressor unit at its existing compressor station near Clarence, Louisiana. This additional compression unit is designed to enhance Gulf South's capability in order to provide the firm transportation service which BG Energy Merchants, LLC has requested.

Any questions regarding the application should be directed to M.L. Gutierrez, Director of Regulatory Affairs, Boardwalk Pipeline Partners, LP, 9 Greenway Plaza, Suite 2800, Houston, Texas 77046, by telephone at (713) 479-8059, or by facsimile at (713) 479-1846, or by e-mail at nell.gutierrez@bwpmlp.com.

Any person may, within 60 days after the issuance of the instant notice by the Commission, file pursuant to Rule 214 of the Commission's Procedural Rules (18 CFR 385.214) a motion to intervene or notice of intervention. Any person filing to intervene or the Commission's staff may, pursuant to section 157.205 of the Commission's regulations under the NGA (18 CFR 157.205) file a protest to the request. If no protest is filed within the time allowed therefor, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the internet in lieu of paper. See 18 CFR 385.2001(a)(1)(iii) and the instructions on the Commission's Web site (http://www.ferc.gov) under the “e-Filing” link.

Kimberly D. Bose,
Secretary.

[FR Doc. 2010-17104 Filed 7-13-10; 8:45 am]

BILLING CODE 6717-01-P